DEPARTMENT OF COMMERCE

National Oceanic and Atmospheric Administration

[I.D. 101006B]

New England Fishery Management Council; Public Meeting

AGENCY: National Marine Fisheries Service (NMFS), National Oceanic and Atmospheric Administration (NOAA), Commerce.

ACTION: Notice of change of date of a public meeting.

SUMMARY: The New England Fishery Management Council (Council) is rescheduling a public meeting of its Groundfish Oversight Committee. Recommendations from this panel will be brought to the full Council for formal consideration and action, if appropriate.

DATES: The meeting will be held on Monday, November 6, 2006, at 9 a.m.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The initial notice published in the Federal Register on October 16, 2006, (71 FR 60698). The meeting was previously scheduled for Friday, November 3, 2006, at 9 a.m. The meeting will now be held on Monday, November 6, 2006, at 9 a.m. All other previously-published information remains unchanged.

Special Accommodations

This meeting is physically accessible to people with disabilities. Requests for sign language interpretation or other auxiliary aids should be directed to Paul J. Howard (see ADDRESSES) at least 5 days prior to the meeting date.

Authority: 16 U.S.C. 1801 et seq.

Dated: October 17, 2006.
Tracey L. Thompson,
Acting Director, Office of Sustainable Fisheries, National Marine Fisheries Service.

[FR Doc. E6-17552 Filed 10-19-06; 8:45 am]

BILLING CODE 3510-22-S